LEGAL SERVICES CORPORATION

Notice of Intent To Award—Grant Awards for the Provision of Civil Legal Services to Eligible Low-Income Clients Beginning January 1, 2016

AGENCY: Legal Services Corporation.

ACTION: Announcement of intention to make FY 2016 Competitive Grant Awards.

SUMMARY: The Legal Services Corporation (LSC) hereby announces its intention to award grants and contracts to provide economical and effective delivery of high quality civil legal services to eligible low-income clients, beginning January 1, 2016.

DATES: All comments and recommendations must be received on or before the close of business on November 25, 2015.

ADDRESSES: Legal Services Corporation—Competitive Grants, Legal Services Corporation; 3333 K Street NW., Third Floor; Washington, DC 20007.

FOR FURTHER INFORMATION CONTACT: Reginald Haley, Office of Program Performance, at (202) 295-1545, or haleyr@lsc.gov.

SUPPLEMENTARY INFORMATION: Pursuant to LSC's announcement of funding availability on March 27, 2015, 80 FR 16461, and Grant Renewal applications due beginning June 1, 2015, LSC intends to award funds to provide civil legal services in the indicated service areas. Applicants for each service area are listed below. The amounts below reflect the funding amounts for 2015 grant awards to each service area. These amounts will change based on the 2016 census adjustment and the final FY2016 appropriation.

LSC will post all updates and/or changes to this notice at http://www.grants.lsc.gov/grants-grantee-resources. Interested parties are asked to visit http://www.grants.lsc.gov/grants-grantee-resources regularly for updates on the LSC competitive grants process.

Name of applicant organization | State | Service area | Estimated annualized 2016 funding
Alaska Legal Services | AK | AK-1 | $ 659,864
Alaska Legal Services | AK | NAK-1 | 542,139
Legal Services Alabama | AL | AL-4 | 5,972,421
Center For Arkansas Legal Services | AR | AR-7 | 2,183,008
Legal Aid of Arkansas | AR | AR-6 | 1,495,419
American Samoa Legal Aid | AS | AS-1 | 222,147
Community Legal Services | AZ | AZ-3 | 5,017,450
Community Legal Services | AZ | MAZ | 148,510
DNA-People's Legal Services | AZ | AZ-2 | 428,253
DNA-People's Legal Services | AZ | NAZ-5 | 2,615,849
Southern Arizona Legal Aid | AZ | AZ-5 | 2,121,481
Southern Arizona Legal Aid | AZ | NAZ-6 | 638,976
Bay Area Legal Aid | CA | CA-28 | 4,203,084
California Indian Legal Services | CA | CA-1 | 24,492
California Indian Legal Services | CA | NCA-1 | 885,652
California Rural Legal Assist | CA | CA-31 | 4,766,159
California Rural Legal Assist | CA | MCA | 2,640,544
Central California Legal Services | CA | CA-26 | 2,838,996
Greater Bakersfield Legal Assist | CA | CA-2 | 1,018,963
Inland Counties Legal Services | CA | CA-12 | 4,676,508
Legal Aid Society of Orange County | CA | CA-19 | 3,514,880
Legal Aid Society of San Diego | CA | CA-14 | 2,793,238
Legal Aid Foundation of Los Angeles | CA | CA-29 | 5,746,726
Legal Services of Northern California | CA | CA-27 | 3,650,471
Neighborhood Legal Services of Los Angeles County | CA | CA-30 | 3,767,240
Colorado Legal Services | CO | CO-6 | 4,402,360
Colorado Legal Services | CO | MCO | 148,559
Colorado Legal Services | CO | NCO-1 | 96,270
Pine Tree Legal Assistance | CT | NCT-1 | 15,693
Statewide Legal Services of Connecticut | CT | CT-1 | 2,430,737
Neighborhood Legal Services Program of the District of Columbia | DC | DC-1 | 754,494
Legal Aid Bureau | DE | MDE | 24,834
Legal Services Corporation of Delaware | DE | DE-1 | 689,992
Bay Area Legal Services | FL | FL-16 | 3,274,589
Coast To Coast Legal Aid of So. Florida | FL | FL-18 | 1,959,338
Community Legal Services of Mid-Florida | FL | FL-15 | 4,086,748
Florida Rural Legal Services | FL | FL-17 | 3,759,690
Florida Rural Legal Services | FL | MFL | 898,346
Legal Services of Greater Miami | FL | FL-5 | 3,221,428
Legal Services of North Florida | FL | FL-13 | 1,512,808
Three Rivers Legal Services | FL | FL-14 | 2,028,848
Atlanta Legal Aid Society | GA | GA-1 | 3,669,473
Georgia Legal Services Program | GA | GA-2 | 7,713,271
Georgia Legal Services Program | GA | MGA | 392,175
Guam Legal Services | GU | GU-1 | 250,355
Legal Aid Society of Hawaii | HI | HI-1 | 1,213,720
Legal Aid Society of Hawaii | HI | NHI-1 | 229,627
Iowa Legal Aid | IA | MIA | 37,740
Iowa Legal Aid | IA | IA-3 | 2,506,246
Idaho Legal Aid Services | ID | ID-1 | 1,460,374
Idaho Legal Aid Services | ID | MID | 186,963
Idaho Legal Aid Services | ID | NID-1 | 65,127
LAF (Legal Assist Foundation. Metro. Chicago) | IL | IL-6 | 5,804,915
LAF (Legal Assist Foundation. Metro. Chicago) | IL | MIL | 249,699
Land of Lincoln Legal Assist. Foundation | IL | IL-3 | 2,511,505
Prairie State Legal Services | IL | IL-7 | 3,650,736
Indiana Legal Services | IN | IN-5 | 6,558,725
Indiana Legal Services | IN | MIN | 113,731
Kansas Legal Services | KS | KS-1 | 2,623,776
Appalachian Res. & Def. Fund of Kentucky | KY | KY-5 | 1,534,297
Kentucky Legal Aid | KY | KY-9 | 1,140,900
Legal Aid of The Blue Grass | KY | KY-10 | 1,479,070
Legal Aid Society | KY | KY-2 | 1,324,022
Acadiana Legal Services Corp | LA | LA-10 | 1,471,883
Legal Services of North Louisiana | LA | LA-11 | 1,415,964
Southeast Louisiana Legal Services Corporation | LA | LA-13 | 2,845,567
Community Legal Aid | MA | MA-10 | 1,399,287
Northeast Legal Aid | MA | MA-4 | 774,370
South Coastal Counties Legal Services | MA | MA-12 | 860,641
Volunteer Lawyers Project of the Boston Bar | MA | MA-11 | 1,902,693
Legal Aid Bureau | MD | MD-1 | 3,725,595
Legal Aid Bureau | MD | MMD | 90,943
Pine Tree Legal Assistance | ME | ME-1 | 1,104,061
Pine Tree Legal Assistance | ME | MMX-1 | 124,933
Pine Tree Legal Assistance | ME | NME-1 | 64,612
Pending receipt and review of grant proposals ¹ | MI | MI-13 | 4,368,810
Legal Aid of Western Michigan | MI | MI-15 | 2,217,766
Legal Services of Eastern Michigan | MI | MI-14 | 1,626,693
Legal Services of Northern Michigan | MI | MI-9 | 815,225
Michigan Advocacy Program | MI | MI-12 | 1,637,057
Michigan Advocacy Program | MI | MMI | 602,101
Michigan Indian Legal Services | MI | NMI-1 | 165,020
Anishinabe Legal Services | MN | NMN-1 | 239,566
Cent Minnesota Legal Services | MN | MN-6 | 1,675,663
Legal Aid Serv. of N.E. Minn | MN | MN-1 | 439,057
Legal Services of Northwest Minnesota Corp | MN | MN-4 | 336,144
S. Minn. Regional Legal Services | MN | MMN | 200,128
S. Minn. Regional Legal Services | MN | MN-5 | 1,547,664
Legal Aid of Western Missouri | MO | MMO | 81,487
Legal Aid of Western Missouri | MO | MO-3 | 1,939,623
Legal Services of Eastern Missouri | MO | MO-4 | 1,999,642
Legal Services of Southern Missouri | MO | MO-7 | 1,690,050
Mid-Missouri Legal Services Corporation | MO | MO-5 | 445,273
Micronesian Legal Services | MP | MP-1 | 1,255,539
Mississippi Center For Legal Services | MS | MS-10 | 2,653,869
Mississippi Center For Legal Services | MS | NMS-1 | 83,330
North Mississippi Rural Legal Services | MS | MS-9 | 1,747,289
Montana Legal Services Association | MT | MMT | 54,599
Montana Legal Services Association | MT | MT-1 | 953,302
Montana Legal Services Association | MT | NMT-1 | 159,616
Legal Aid of North Carolina | NC | MNC | 536,104
Legal Aid of North Carolina | NC | NC-5 | 10,616,211
Legal Aid of North Carolina | NC | NNC-1 | 218,781
Legal Services of North Dakota | ND | ND-3 | 447,577
Legal Services of North Dakota | ND | NND-3 | 270,032
Southern MN Regional Legal Services | ND | MND | 115,945
Legal Aid of Nebraska | NE | MNE | 42,294
Legal Aid of Nebraska | NE | NE-4 | 1,524,974
Legal Aid of Nebraska | NE | NNE-1 | 33,135
Legal Advice & Referral Center | NH | NH-1 | 742,908
Central Jersey Legal Services | NJ | NJ-17 | 1,095,631
Essex-Newark Legal Services Project | NJ | NJ-8 | 831,986
Legal Services of Northwest Jersey | NJ | NJ-15 | 389,039
Northeast New Jersey Legal Services | NJ | NJ-18 | 1,632,392
South Jersey Legal Services | NJ | MNJ | 120,687
South Jersey Legal Services | NJ | NJ-12 | 681,325
South Jersey Legal Services | NJ | NJ-16 | 1,247,913
DNA-People's Legal Services | NM | NM-1 | 189,219
DNA-People's Legal Services | NM | NNM-2 | 22,773
New Mexico Legal Aid | NM | MNM | 87,360
New Mexico Legal Aid | NM | NM-5 | 2,568,653
New Mexico Legal Aid | NM | NNM-4 | 465,776
Nevada Legal Services | NV | NNV-1 | 133,300
Nevada Legal Services | NV | NV-1 | 2,689,598
Legal Aid Society of Mid-New York | NY | MNY | 276,872
Legal Aid Society of Mid-New York | NY | NY-22 | 1,586,522
Legal Aid Society of Northeastern New York | NY | NY-21 | 1,235,643
Legal Assistance of Western New York | NY | NY-23 | 1,668,875
Legal Services of The Hudson Valley | NY | NY-20 | 1,623,879
Legal Services For New York City | NY | NY-9 | 11,120,280
Nassau/Suffolk Law Services | NY | NY-7 | 1,162,634
Neighborhood Legal Services | NY | NY-24 | 1,194,326
Community Legal Aid Services | OH | OH-20 | 1,942,738
Legal Aid of Western Ohio | OH | MOH | 126,002
Legal Aid of Western Ohio | OH | OH-23 | 3,018,102
Legal Aid Society of Cleveland | OH | OH-21 | 2,180,522
Legal Aid Society of Greater Cincinnati | OH | OH-18 | 1,640,696
Ohio State Legal Services | OH | OH-24 | 3,505,040
Legal Aid Services of Oklahoma | OK | MOK | 62,596
Legal Aid Services of Oklahoma | OK | OK-3 | 4,213,616
Oklahoma Indian Legal Services | OK | NOK-1 | 820,795
Legal Aid Services of Oregon | OR | MOR | 557,181
Legal Aid Services of Oregon | OR | NOR-1 | 185,053
Legal Aid Services of Oregon | OR | OR-6 | 3,596,884
Laurel Legal Services | PA | PA-5 | 632,369
Legal Aid of Southeastern Pennsylvania | PA | PA-23 | 1,111,687
MidPenn Legal Services | PA | PA-25 | 2,309,547
Neighborhood Legal Services Association | PA | PA-8 | 1,396,409
North Penn Legal Services | PA | PA-24 | 1,850,007
Northwestern Legal Services | PA | PA-26 | 696,354
Philadelphia Legal Assist. Center | PA | MPA | 165,788
Philadelphia Legal Assist. Center | PA | PA-1 | 2,738,694
Southwestern Pennsylvania Legal Services | PA | PA-11 | 421,409
Community Law Office | PR | PR-2 | 221,282
Puerto Rico Legal Services | PR | MPR | 290,819
Puerto Rico Legal Services | PR | PR-1 | 11,127,089
Rhode Island Legal Services | RI | RI-1 | 950,613
South Carolina Legal Services | SC | MSC | 197,851
South Carolina Legal Services | SC | SC-8 | 5,504,311
Dakota Plains Legal Services | SD | NSD-1 | 935,989
Dakota Plains Legal Services | SD | SD-4 | 385,715
East River Legal Services | SD | SD-2 | 385,575
Legal Aid Society of Middle TN and the Cumberlands | TN | TN-10 | 3,077,716
Legal Aid of East Tennessee | TN | TN-9 | 2,408,494
Memphis Area Legal Services | TN | TN-4 | 1,421,775
West Tennessee Legal Services | TN | TN-7 | 693,812
Legal Aid of Northwest Texas | TX | TX-14 | 8,649,058
Lone Star Legal Aid | TX | TX-13 | 10,283,901
Texas RioGrande Legal Aid | TX | MSX-2 | 1,692,033
Texas RioGrande Legal Aid | TX | NTX-1 | 31,374
Texas RioGrande Legal Aid | TX | TX-15 | 10,260,847
Utah Legal Services | UT | MUT | 67,848
Utah Legal Services | UT | NUT-1 | 82,473
Utah Legal Services | UT | UT-1 | 2,346,659
Blue Ridge Legal Services | VA | VA-19 | 784,252
Central Virginia Legal Aid Society | VA | MVA | 157,757
Central Virginia Legal Aid Society | VA | VA-18 | 1,111,038
Legal Aid Society of Eastern Virginia | VA | VA-16 | 1,145,838
Legal Services of Northern Virginia | VA | VA-20 | 1,254,701
Southwest Virginia Legal Aid Society | VA | VA-15 | 716,020
Virginia Legal Aid Society | VA | VA-17 | 850,074
Legal Services of The Virgin Islands | VI | VI-1 | 164,978
Legal Services Law Line of Vermont | VT | VT-1 | 486,833
Northwest Justice Project | WA | MWA | 730,121
Northwest Justice Project | WA | NWA-1 | 285,566
Northwest Justice Project | WA | WA-1 | 5,393,583
Legal Action of Wisconsin | WI | MWI | 91,069
Legal Action of Wisconsin | WI | WI-5 | 3,886,718
Wisconsin Judicare | WI | NWI-1 | 155,502
Wisconsin Judicare | WI | WI-2 | 1,024,320
Legal Aid of West Virginia | WV | WV-5 | 2,253,495
Legal Aid of Wyoming | WY | WY-4 | 416,828
Legal Aid of Wyoming | WY | NWY-1 | 173,227
¹ LSC re-competed the MI-13 service area in Michigan on September 22, 2015. Grant proposals are due October 23, 2015. LSC will publish the notice of intent to award funding for the MI-13 service area in November 2015.

These grants will be awarded under the authority conferred on LSC by Section 1006(a)(1) of the Legal Services Corporation Act, 42 U.S.C. 2996e(a)(1). Awards will be made so that each service area is served, although no listed organization is guaranteed an award or contract. Grants will become effective and grant funds will be distributed on or about January 1, 2016.

This notice is issued pursuant to 42 U.S.C. 2996g(e). Comments and recommendations concerning potential grantees are invited, and should be delivered to LSC within thirty (30) days from the date of publication of this notice.

Dated: October 21, 2015.
Stefanie K. Davis,
Assistant General Counsel.

[FR Doc. 2015-27140 Filed 10-23-15; 8:45 am]

BILLING CODE 7050-01-P